DEPARTMENT OF THE INTERIOR

Bureau of Land Management

[WY-920-1310-01; WYW145696]

Notice of Proposed Reinstatement of Terminated Oil and Gas Lease

AGENCY: Bureau of Land Management, Interior.

ACTION: Notice of Proposed Reinstatement and Rental/Royalty Reduction of Terminated Oil and Gas Lease.

SUMMARY: Under the provisions of 30 U.S.C. 188(d) and (e), and 43 CFR 3108.2-3(a) and (b)(1), the Bureau of Land Management (BLM) received a petition for reinstatement of oil and gas lease WYW145696 for lands in Big Horn County, Wyoming. The petition was filed on time and was accompanied by all the rentals due since the date the lease terminated under the law.

FOR FURTHER INFORMATION CONTACT: Bureau of Land Management, Pamela J. Lewis, Chief, Fluid Minerals Adjudication, at (307) 775-6176.

SUPPLEMENTARY INFORMATION: The lease has been granted a rental and royalty reduction at rate of $2.00 per acre, or fraction thereof, per year and 12½ percent, respectively. The lessee has paid the required $500 administrative fee and $166 to reimburse the Department for the cost of this Federal Register notice. The lessee has met all the requirements for reinstatement of the lease as set out in section 31(d) and (e) of the Mineral Lands Leasing Act of 1920 (30 U.S.C. 188), and the Bureau of Land Management is proposing to reinstate lease WYW145696 effective August 1, 2003, under the original terms and conditions of the lease, rates cited above. BLM has not issued a valid lease affecting the lands.

Pamela J. Lewis,
Chief, Fluid Minerals Adjudication.

[FR Doc. 05-701 Filed 1-12-05; 8:45 am]

BILLING CODE 4310-22-P